ENVIRONMENTAL PROTECTION AGENCY

[FRL-9911-41-OECA]

See the Item Specific Docket Numbers Provided in the Text; Proposed Information Collection Request; Comment Request; See Item Specific ICR Titles Provided in the Text

AGENCY: Environmental Protection Agency (EPA).

ACTION: Notice.

SUMMARY: The Environmental Protection Agency is planning to submit an information collection request (ICR), (See item specific ICR title, EPA ICR Number, and OMB Control Number provided in the text) to the Office of Management and Budget (OMB) for review and approval in accordance with the Paperwork Reduction Act (44 U.S.C. 3501 et seq.). Before doing so, EPA is soliciting public comments on specific aspects of the proposed information collection as described below. This is a proposed extension of the ICR, see expiration date for each ICR provided in the text. An Agency may not conduct or sponsor and a person is not required to respond to a collection of information unless it displays a currently valid OMB control number.

DATES: Comments must be submitted on or before July 28, 2014.

ADDRESSES: Submit your comments, referencing the Docket ID numbers provided for each item in the text, online using www.regulations.gov (our preferred method), by email to docket.oeca@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Patrick Yellin, Compliance Assessment and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

(1) Docket ID Number: EPA-HQ-OECA-2014-0043; Title: NSPS for Polymeric Coating of Supporting Substrates Facilities (40 CFR Part 60, Subpart VVV); ICR Numbers: EPA ICR Number 1284.10, OMB Control Number 2060-0181; ICR Status: This ICR is scheduled to expire on October 31, 2014.

Abstract: Respondents are owners or operators of facilities performing polymeric coating of supporting substrates. NSPS Subpart VVV applies to each coating operation and any onsite mix preparation equipment used to prepare coating for the polymeric coating of supporting substrates, which commences construction, modification or reconstruction after April 30, 1987. The rule establishes standards for VOC use, emission reduction limits, and for capture and recovery of VOC emissions. The recordkeeping, monitoring and reporting requirements allow the regulatory agencies to determine compliance with the standard.

Form Numbers: None.

Respondents/affected entities: Owners or operators of facilities performing polymeric coating of supporting substrates.

Respondent's obligation to respond: Mandatory (40 CFR Part 60, Subpart VVV).

Estimated number of respondents: 56 (total).

Frequency of response: Initially, quarterly, and semiannually.

Total estimated burden: 13,108 hours (per year). Burden is defined at 5 CFR 1320.03(b).

Total estimated cost: $1,866,424 (per year), includes $636,500 annualized capital or operation & maintenance costs.

Changes in Estimates: There is an expected increase in hours in the total estimated respondent burden compared with the ICR currently approved by OMB. This increase is due to an adjustment to the estimates to account for industry growth.

(2) Docket ID Number: EPA-HQ-OECA-2014-0054; Title: NESHAP for Pulp and Paper Production (40 CFR Part 63, Subpart S); ICR Numbers: EPA ICR Number 1657.08, OMB Control Number 2060-0387; ICR Status: This ICR is scheduled to expire on December 31, 2014.

Abstract: Respondents are owners or operators of facilities that produce pulp, paper, or paperboard by employing kraft, soda, sulfite, semi-chemical, or mechanical pulping processes using wood; or any process using secondary or non-wood fiber and that emits 10 tons per year or more of any hazardous air pollutant or 25 tons per year or more of any combination of hazardous air pollutants. Affected sources are all the hazardous air pollutant emission points or the HAP emission points in the pulping and bleaching system for mechanical pulping processes using wood and any process using secondary or non-wood fiber.

Form Numbers: None.

Respondents/affected entities: Owners or operators of pulp and paper production facilities.

Respondent's obligation to respond: Mandatory (40 CFR Part 63, Subpart S).

Estimated number of respondents: 115 (total).

Frequency of response: Initially, occasionally, quarterly, and semiannually.

Total estimated burden: 35,358 hours (per year). Burden is defined at 5 CFR 1320.03(b).

Total estimated cost: $3,711,577 (per year), includes $372,500 annualized capital or operation & maintenance costs.

Changes in Estimates: There is no change in burden hours in this ICR compared to the previous ICR. However, there is an expected increase in the respondent and Agency costs due to an adjustment to reflect updated labor rates.

(3) Docket ID Number: EPA-HQ-OECA-2014-0027; Title: NSPS for Bulk Gasoline Terminals (40 CFR Part 60, Subpart XX); ICR Numbers: EPA ICR Number 0664.11, OMB Control Number 2060-0006; ICR Status: This ICR is scheduled to expire on January 31, 2015.

Abstract: This rule applies to affected facilities at bulk gasoline terminals which have a through put greater than 75,700 liters per day, delivering liquid product into gasoline tank trucks.

Form Numbers: None.

Respondents/affected entities: Bulk gasoline terminals.

Respondent's obligation to respond: Mandatory (40 CFR Part 60, Subpart XX).

Estimated number of respondents: 40 (total).

Frequency of response: Initially and occasionally.

Total estimated burden: 13,165 hours (per year). Burden is defined at 5 CFR 1320.03(b).

Total estimated cost: $1,260,230 (per year), includes zero annualized capital or operation & maintenance costs.

Changes in Estimates: There is no change in burden hours in this ICR compared to the previous ICR. However, there is an expected increase in the respondent and Agency costs due to an adjustment to reflect updated labor rates.

(4) Docket ID Number: EPA-HQ-OECA-2014-0030; Title: NSPS for Metallic Mineral Processing Plants (40 CFR Part 60, Subpart LL); ICR Numbers: EPA ICR Number 0982.11, OMB Control Number 2060-0016; ICR Status: This ICR is scheduled to expire on January 31, 2015.

Abstract: This NSPS affects owners and operators of metallic mineral processing plants. Owners and operators must conduct initial performance tests, maintain records of startups, shutdowns, and malfunction and continuous monitoring system parameters, submit semi-annual reports.

Form Numbers: None.

Respondents/affected entities: Owners and operators of metallic mineral processing plants.

Respondent's obligation to respond: Mandatory (40 CFR Part 60, Subpart LL).

Estimated number of respondents: 20 (total).

Frequency of response: Initially, occasionally, and semiannually.

Total estimated burden: 2,306 hours (per year). Burden is defined at 5 CFR 1320.03(b).

Total estimated cost: $233,712 (per year), includes $13,000 annualized capital or operation & maintenance costs.

Changes in Estimates: There is no change in burden hours in this ICR compared to the previous ICR. However, there is an expected increase in the respondent and Agency costs due to an adjustment to reflect updated labor rates.

(5) Docket ID Number: EPA-HQ-OECA-2014-0035; Title: NSPS for Sulfuric Acid Plants (40 CFR Part 60, Subpart H); ICR Numbers: EPA ICR Number 1057.13, OMB Control Number 2060-0041; ICR Status: This ICR is scheduled to expire on January 31, 2015.

Abstract: The NSPS applies to any sulfuric acid facility commencing construction, modification, or reconstruction after August 17, 1971. Owners/operators must notify EPA of construction, modifications, startups, shutdowns, malfunctions, and the date and results of initial performance test.

Form Numbers: None.

Respondents/affected entities: Owners and operators of sulfuric acid plants.

Respondent's obligation to respond: Mandatory (40 CFR Part 60, Subpart H).

Estimated number of respondents: 53 (total).

Frequency of response: Initially, occasionally, and semiannually.

Total estimated burden: 8,594 hours (per year). Burden is defined at 5 CFR 1320.03(b).

Total estimated cost: $1,061,150 (per year), includes $238,500 annualized capital or operation & maintenance costs.

Changes in Estimates: There is no change in burden hours in this ICR compared to the previous ICR. However, there is an expected increase in the respondent and Agency costs due to an adjustment to reflect updated labor rates.

(6) Docket ID Number: EPA-HQ-OECA-2014-0045; Title: NSPS for Municipal Waste Combustors (40 CFR Part 60, Subpart Ea and Eb); ICR Numbers: EPA ICR Number 1506.13, OMB Control Number 2060-0210; ICR Status: This ICR is scheduled to expire on January 31, 2015.

Abstract: These standards apply to each municipal waste combustor (MWC) unit with a capacity greater than 250 tons per day of municipal solid waste which commended construction, modification or reconstruction after December 20, 1989. MWCs are required to keep records and periodically report their compliance status. Information required by the NSPS is necessary to ensure that emission standards are attained and that MWC's are properly operated and maintained.

Form Numbers: None.

Respondents/affected entities: Owners and operators of municipal waste combustor units.

Respondent's obligation to respond: Mandatory (40 CFR Part 60, Subpart Ea and Eb).

Estimated number of respondents: 12 (total).

Frequency of response: Initially, quarterly, semiannually, and annually.

Total estimated burden: 20,421 hours (per year). Burden is defined at 5 CFR 1320.03(b).

Total estimated cost: $1,916,503 (per year), includes $158,692 annualized capital or operation & maintenance costs.

Changes in Estimates: There is an expected increase in hours in the total estimated respondent burden compared with the ICR currently approved by OMB. This increase is due to an adjustment to reflect an increased number of sources subject to Subpart Eb.

(7) Docket ID Number: EPA-HQ-OECA-2014-0057; Title: NESHAP for Wood Furniture Manufacturing Operations (40 CFR Part 63, Subpart JJ); ICR Numbers: EPA ICR Number 1716.09, OMB Control Number 2060-0324; ICR Status: This ICR is scheduled to expire on January 31, 2015.

Abstract: The potential respondents are owners or operators of any existing or new affected source with wood furniture manufacturing operations. There are an estimated 406 facilities subject to the Wood Furniture Manufacturing NESHAP. The affected source is any wood furniture manufacturing facility that is engaged, either in part or in whole, in the manufacture of wood furniture or wood furniture components and that is located at a plant site that is a major source as defined in 40 CFR Part 63.2, excluding sources that meet the criteria established in § 63.800(a). (b), and (c) of the Wood Furniture Manufacturing NESHAP.

Form Numbers: None.

Respondents/affected entities: Owners and operators of wood furniture manufacturing facilities.

Respondent's obligation to respond: Mandatory (40 CFR Part 63, Subpart JJ).

Estimated number of respondents: 750 (total).

Frequency of response: Initially, occasionally, quarterly, semiannually, and annually.

Total estimated burden: 49,190 hours (per year). Burden is defined at 5 CFR 1320.03(b).

Total estimated cost: $4,644,200 (per year), includes $18,000 annualized capital or operation & maintenance costs.

Changes in Estimates: There is an expected increase in burden compared with the ICR currently approved by OMB. This is due to an adjustment to account for all burden associated with the NESHAP, including any amendments to the regulation. The most recent ICR only covers burden associated with the recent rule amendment.

(8) Docket ID Number: EPA-HQ-OECA-2014-0061; Title: NESHAP for Chemical Recovery Combustion Sources at Kraft, Soda, Sulfite, and Stand-Alone Semichemical Pulp Mills (40 CFR Part 63, Subpart MM); ICR Numbers: EPA ICR Number 1805.07, OMB Control Number 2060-0377; ICR Status: This ICR is scheduled to expire on January 31, 2015.

Abstract: Respondents are owners or operators of kraft, soda, sulfite, and stand-alone semichemical pulp mills and must submit notification and reports and maintain records required by the general provisions (40 CFR Part 63, Subpart A). Recordkeeping of parameters related to process and air pollution control technology is required. The reports and records will be used to demonstrate compliance with the applicable emission limits and/or standards.

Form Numbers: None.

Respondents/affected entities: Owners and operators of kraft, soda, sulfite, and stand-alone semichemical pulp mills.

Respondent's obligation to respond: Mandatory (40 CFR Part 63, Subpart MM).

Estimated number of respondents: 111 (total).

Frequency of response: Initially, occasionally, quarterly, and semiannually.

Total estimated burden: 126,207 hours (per year). Burden is defined at 5 CFR 1320.03(b).

Total estimated cost: $742,840 (per year), includes $712,000 annualized capital or operation & maintenance costs.

Changes in Estimates: There is no change in burden hours in this ICR compared to the previous ICR. However, there is an expected increase in the respondent and Agency costs due to an adjustment to reflect updated labor rates.

(9) Docket ID Number: EPA-HQ-OECA-2014-0062; Title: NESHAP for Pesticide Active Ingredient Production (40 CFR Part 63, Subpart MMM); ICR Numbers: EPA ICR Number 1807.07, OMB Control Number 2060-0370; ICR Status: This ICR is scheduled to expire on January 31, 2015.

Abstract: Respondents are owners and operators of pesticides active ingredient production operations. Respondents must submit one-time reports of initial compliance and either semiannual reports or quarterly reports of compliance. Recordkeeping of parameters related to process and air pollution control technologies is required. The reports and records will be used to demonstrate compliance with the standards.

Form Numbers: None.

Respondents/affected entities: Owners and operators of pesticides active ingredient production operations.

Respondent's obligation to respond: Mandatory (40 CFR Part 63, Subpart MMM).

Estimated number of respondents: 15 (total).

Frequency of response: Initially, quarterly, and semiannually.

Total estimated burden: 3,666 hours (per year). Burden is defined at 5 CFR 1320.03(b).

Total estimated cost: $623,903 (per year), includes $19,875 annualized capital or operation & maintenance costs.

Changes in Estimates: There is no change in burden hours in this ICR compared to the previous ICR. However, there is an expected increase in the respondent and Agency costs due to an adjustment to reflect updated labor rates.

(10) Docket ID Number: EPA-HQ-OECA-2014-0067; Title: NESHAP for Primary Copper Smelters (40 CFR Part 63, Subpart QQQ); ICR Numbers: EPA ICR Number 1850.07, OMB Control Number 2060-0476; ICR Status: This ICR is scheduled to expire on January 31, 2015.

Abstract: The NESHAP applies to owners and operators of each new and existing affected source at primary copper smelters. They are required to comply with the recordkeeping and reporting requirements of the NESHAP General Provisions (40 CFR Part 63, Subpart A) and maintain records of specific information needed by EPA to determine if compliance has been achieved.

Form Numbers: None.

Respondents/affected entities: Owners and operators of primary copper smelters.

Respondent's obligation to respond: Mandatory (40 CFR Part 63, Subpart QQQ).

Estimated number of respondents: 3 (total).

Frequency of response: Initially, occasionally, monthly, semiannually, and annually.

Total estimated burden: 8,837 hours (per year). Burden is defined at 5 CFR 1320.03(b).

Total estimated cost: $855,477 (per year), includes $8,220 annualized capital or operation & maintenance costs.

Changes in Estimates: There is no change in burden hours in this ICR compared to the previous ICR. However, there is an expected increase in the respondent and Agency costs due to an adjustment to reflect updated labor rates.

(11) Docket ID Number: EPA-HQ-OECA-2014-0080; Title: NESHAP for Cellulose Products Manufacturing (40 CFR Part 63, Subpart UUUU); ICR Numbers: EPA ICR Number 1974.07, OMB Control Number 2060-0488; ICR Status: This ICR is scheduled to expire on January 31, 2015.

Abstract: Respondents are owners or operators of cellulose products manufacturing facilities. Respondents would submit notifications and reports and maintain records required by the General Provisions 40 CFR Part 63, subpart A). Recordkeeping of parameters related to air pollution control technologies is required.

Form Numbers: None.

Respondents/affected entities: Cellulose products manufacturing facilities.

Respondent's obligation to respond: Mandatory (40 CFR Part 63, Subpart UUUU).

Estimated number of respondents: 13 (total).

Frequency of response: Occasionally, weekly, and semiannually.

Total estimated burden: 12,088 hours (per year). Burden is defined at 5 CFR 1320.03(b).

Total estimated cost: $1,258,056 (per year), includes $1,014 annualized capital or operation & maintenance costs.

Changes in Estimates: There is no change in burden hours in this ICR compared to the previous ICR. However, there is an expected increase in the respondent and Agency costs due to an adjustment to reflect updated labor rates.

(12) Docket ID Number: EPA-HQ-OECA-2014-0083; Title: NESHAP for Leather Finishing Operations (40 CFR Part 63, Subpart TTTT); ICR Numbers: EPA ICR Number 1985.06, OMB Control Number 2060-0478; ICR Status: This ICR is scheduled to expire on January 31, 2015.

Abstract: This NESHAP applies to owners and operators of existing, reconstructed, or new leather finishing operations. All owners and operators of leather finishing operations will develop and implement a plan for demonstrating compliance that explains the methods used to inventory the finishes, HAP content of finishes, and production levels from each leather product process operation necessary to comply with the NESHAP.

Form Numbers: None.

Respondents/affected entities: Owners and operators of leather finishing operations.

Respondent's obligation to respond: Mandatory (40 CFR Part 63, Subpart TTTT).

Estimated number of respondents: 10 (total).

Frequency of response: Initially, occasionally, and annually.

Total estimated burden: 334 hours (per year). Burden is defined at 5 CFR 1320.03(b).

Total estimated cost: $31,495 (per year), includes zero annualized capital or operation & maintenance costs.

Changes in Estimates: There is no change in burden hours in this ICR compared to the previous ICR. However, there is an expected increase in the respondent and Agency costs due to an adjustment to reflect updated labor rates.

(13) Docket ID Number: EPA-HQ-OECA-2014-0085; Title: NESHAP—Reporting and Recordkeeping Requirements for the Friction Materials Manufacturing (40 CFR Part 63, Subpart QQQQQ); ICR Numbers: EPA ICR Number 2025.06, OMB Control Number 2060-0481; ICR Status: This ICR is scheduled to expire on January 31, 2015.

Abstract: Owners or operators of friction materials manufacturing facilities are required to comply with reporting and recordkeeping requirements, and maintain records of specific information needed by EPA to determine if compliance has been achieved. Friction materials manufacturing facilities manufacture friction material by using a solvent-based process.

Form Numbers: None.

Respondents/affected entities: Friction materials manufacturing facilities.

Respondent's obligation to respond: Mandatory (40 CFR Part 63, Subpart QQQQQ).

Estimated number of respondents: 4 (total).

Frequency of response: Initially, occasionally, semiannually, and annually.

Total estimated burden: 1,296 hours (per year). Burden is defined at 5 CFR 1320.03(b).

Total estimated cost: $123,461 (per year), includes $1,088 annualized capital or operation & maintenance costs.

Changes in Estimates: There is no change in burden hours in this ICR compared to the previous ICR. However, there is an expected increase in the respondent and Agency costs due to an adjustment to reflect updated labor rates.

(14) Docket ID Number: EPA-HQ-OECA-2014-0091; Title: NESHAP for Engine Test Cells/Stands (40 CFR Part 63, Subpart PPPPP); ICR Numbers: EPA ICR Number 2066.06, OMB Control Number 2060-0483; ICR Status: This ICR is scheduled to expire on January 31, 2015.

Abstract: The NESHAP applies to any new or reconstructed engine test cells/stands located at major source facilities that are being used for testing internal combustion engines with a rated power of 25 horsepower (hp) or more. These sources must be in compliance with the requirements of the engine test cells/stands NESHAP upon startup.

Form Numbers: None.

Respondents/affected entities: Owners and operators of friction materials manufacturing facilities.

Respondent's obligation to respond: Mandatory (40 CFR Part 63, Subpart PPPPP).

Estimated number of respondents: 18 (total).

Frequency of response: Initially, semiannually, and annually

Total estimated burden: 3,043 hours (per year). Burden is defined at 5 CFR 1320.03(b)

Total estimated cost: $293,761 (per year), includes $5,400 annualized capital or operation & maintenance costs.

Changes in Estimates: There is no change in burden hours in this ICR compared to the previous ICR. However, there is an expected increase in the respondent and Agency costs due to an adjustment to reflect updated labor rates.

(15) Docket ID Number: EPA-HQ-OECA-2014-0026; Title: NSPS for Metal Coil Surface Coating (40 CFR Part 60, Subpart TT); ICR Numbers: EPA ICR Number 0660.12, OMB Control Number 2060-0107; ICR Status: This ICR is scheduled to expire on February 28, 2015.

Abstract: These regulations apply to the following surface coating lines in the metal coil surface coating industry: each prime coat operation, each finish coat operation, and each prime and finish coat operation cured simultaneously where the finish coat is applies wet on wet over the price coat. These regulations apply to metal coil coating facilities commencing construction, modification, or reconstruction after January 5, 1981.

Form Numbers: None.

Respondents/affected entities: Owners and operators of metal coil surface coating facilities.

Respondent's obligation to respond: Mandatory (40 CFR Part 60, Subpart TT).

Estimated number of respondents: 158 (total).

Frequency of response: Initially, occasionally, semiannually, and annually.

Total estimated burden: 15,643 hours (per year). Burden is defined at 5 CFR 1320.03(b).

Total estimated cost: $1,829,259 (per year), includes $331,800 annualized capital or operation & maintenance costs.

Changes in Estimates: There is no change in burden hours in this ICR compared to the previous ICR. However, there is an expected increase in the respondent and Agency costs due to an adjustment to reflect updated labor rates.

(16) Docket ID Number: EPA-HQ-OECA-2014-0028; Title: NSPS for Calciners and Dryers in the Mineral Industries (40 CFR Part 60, Subpart UUU); ICR Numbers: EPA ICR Number 0746.09, OMB Control Number 2060-0251; ICR Status: This ICR is scheduled to expire on February 28, 2015.

Abstract: These standards apply to new, modified and reconstructed calciners and dryers at mineral processing plants that process or produce any of the following minerals or a combination of these minerals: alumina, ball clay, bentonite, diatomite, feldspar, fire clay, fuller's earth, gypsum, industrial sand, kaolin, lightweight aggregate, magnesium compounds, perlite, roofing granules, talc, titanium dioxide, and vermiculite.

Form Numbers: None.

Respondents/affected entities: Owners and operators of calciners and dryers at mineral processing plants.

Respondent's obligation to respond: Mandatory (40 CFR Part 60, Subpart UUU).

Estimated number of respondents: 167 (total).

Frequency of response: Initially, occasionally, and semiannually.

Total estimated burden: 6,434 hours (per year). Burden is defined at 5 CFR 1320.03(b).

Total estimated cost: $724,410 (per year), includes $108,550 annualized capital or operation & maintenance costs.

Changes in Estimates: There is no change in burden hours in this ICR compared to the previous ICR. However, there is an expected increase in the respondent and Agency costs due to an adjustment to reflect updated labor rates.

(17) Docket ID Number: EPA-HQ-OECA-2014-0033; Title: NSPS for Petroleum Refineries (40 CFR Part 60, Subpart J); ICR Numbers: EPA ICR Number 1054.12, OMB Control Number 2060-0022; ICR Status: This ICR is scheduled to expire on February 28, 2015.

Abstract: This rule applies to affected facilities at petroleum refineries; fluid catalytic cracking unit catalyst regenerators, fuel gas combustion devices, and Claus sulfur recovery plants of more than 20 long tons per day commencing construction, modification, or reconstruction after the date of proposal.

Form Numbers: None.

Respondents/affected entities: Petroleum refineries.

Respondent's obligation to respond: Mandatory (40 CFR Part 60, Subpart J).

Estimated number of respondents: 150 (total).

Frequency of response: Initially, occasionally, and semiannually.

Total estimated burden: 15,784 hours (per year). Burden is defined at 5 CFR 1320.03(b).

Total estimated cost: $2,229,986 (per year), includes $719,100 annualized capital or operation & maintenance costs.

Changes in Estimates: There is no change in burden hours in this ICR compared to the previous ICR. However, there is an expected increase in the respondent and Agency costs due to an adjustment to reflect updated labor rates.

(18) Docket ID Number: EPA-HQ-OECA-2014-0037; Title: NSPS for Primary and Secondary Emissions from Basic Oxygen Furnaces (40 CFR Part 60, Subpart N and Na); ICR Numbers: EPA ICR Number 1069.11, OMB Control Number 2060-0029; ICR Status: This ICR is scheduled to expire on February 28, 2015.

Abstract: This rule applies to Basic Oxygen Process Furnaces (BOPFs) in iron and steel plants commencing construction, modification or reconstruction after June 11, 1973 and top-blown BOPFs, hot metal transfer stations or skimming stations for which construction, reconstruction, or modification commenced after January 20, 1983. Respondents are required to submit initial notifications, conduct performance tests and report test results for the primary emission control devices, and submit periodic reports. Sources also must develop and implement a startup, shutdown, and malfunction plan (SSMP) and submit semiannual reports of any event where the procedures in the plan were not followed. These notifications, reports, and records are essential in determining compliance, and are required of all sources subject to NSPS.

Form Numbers: None.

Respondents/affected entities: Owners and operators of basic oxygen process furnaces at iron and steel plants.

Respondent's obligation to respond: Mandatory (40 CFR Part 60, Subpart N and Na).

Estimated number of respondents: 18 (total).

Frequency of response: Initially, occasionally, and semiannually.

Total estimated burden: 6,263 hours (per year). Burden is defined at 5 CFR 1320.03(b).

Total estimated cost: $629,183 (per year), includes $29,700 annualized capital or operation & maintenance costs.

Changes in Estimates: There is no change in burden hours in this ICR compared to the previous ICR. However, there is an expected increase in the respondent and Agency costs due to an adjustment to reflect updated labor rates.

(19) Docket ID Number: EPA-HQ-OECA-2014-0041; Title: NSPS for Glass Manufacturing Plants (40 CFR Part 60, Subpart CC); ICR Numbers: EPA ICR Number 1131.11, OMB Control Number 2060-0054; ICR Status: This ICR is scheduled to expire on February 28, 2015.

Abstract: The provisions of this subpart apply to each glass manufacturing plant that commenced construction or modification after June 15, 1979. Owners or operators of subpart CC facilities are required to comply with reporting and recordkeeping requirements, and maintain records of specific information needed by EPA to determine if compliance has been achieved. Sources are required to submit semiannual reports of excess emissions.

Form Numbers: None.

Respondents/affected entities: Glass manufacturing plants.

Respondent's obligation to respond: Mandatory (40 CFR Part 60, Subpart CC).

Estimated number of respondents: 41 (total).

Frequency of response: Initially, occasionally, and semiannually.

Total estimated burden: 803 hours (per year). Burden is defined at 5 CFR 1320.03(b).

Total estimated cost: $314,638 (per year), includes $237,800 annualized capital or operation & maintenance costs.

Changes in Estimates: There is no change in burden hours in this ICR compared to the previous ICR. However, there is an expected increase in the respondent and Agency costs due to an adjustment to reflect updated labor rates.

(20) Docket ID Number: EPA-HQ-OECA-2014-0047; Title: NSPS for Municipal Solid Waste Landfills (40 CFR Part 60, Subpart WWW); ICR Numbers: EPA ICR Number 1557.09, OMB Control Number 2060-0220; ICR Status: This ICR is scheduled to expire on February 28, 2015.

Abstract: The provisions of this subpart apply to each municipal solid waste landfill that commenced construction, reconstruction or modification on or after May 30, 1991. Owners or operators of Subpart WWW landfills are required to comply with reporting and record keeping requirements, and maintain records of specific information needed by EPA to determine if compliance has been achieved.

Form Numbers: None.

Respondents/affected entities: Owners and operators of municipal solid waste landfills.

Respondent's obligation to respond: Mandatory (40 CFR Part 60, Subpart WWW).

Estimated number of respondents: 183 (total).

Frequency of response: Initially, occasionally, and annually.

Total estimated burden: 3,971 hours (per year). Burden is defined at 5 CFR 1320.03(b).

Total estimated cost: $434,255 (per year), includes $53,994 annualized capital or operation & maintenance costs.

Changes in Estimates: There is an expected increase in the total estimated respondent and Agency burden compared with the ICR currently approved by OMB. This increase is due to an adjustment to the estimates to account for industry growth since the last ICR renewal period.

(21) Docket ID Number: EPA-HQ-OECA-2014-0056; Title: NESHAP for Shipbuilding and Ship Repair Facilities—Surface Coating (40 CFR Part 63, Subpart II); ICR Numbers: EPA ICR Number 1712.09, OMB Control Number 2060-0330; ICR Status: This ICR is scheduled to expire on February 28, 2015.

Abstract: The respondents are owners or operators of shipbuilding and ship repair facilities. Operations covered include: primer and top coat application in manufacturing processes and in ship repair processes. Owners or operators of shipbuilding and ship repair facilities are required to report startup, initial performance test, and retest information. Facilities will also periodically report emission exceedances, changes to equipment, and comply with other requirements of the NESHAP.

Form Numbers: None.

Respondents/affected entities: Owners or operators of shipbuilding and ship repair facilities.

Respondent's obligation to respond: Mandatory (40 CFR Part 63, Subpart II).

Estimated number of respondents: 56 (total).

Frequency of response: Initially, occasionally, and semiannually.

Total estimated burden: 28,594 hours (per year). Burden is defined at 5 CFR 1320.03(b).

Total estimated cost: $1,740,381 (per year), includes zero annualized capital or operation & maintenance costs.

Changes in Estimates: There is no change in burden hours in this ICR compared to the previous ICR. However, there is an expected increase in the respondent and Agency costs due to an adjustment to reflect updated labor rates.

(22) Docket ID Number: EPA-HQ-OECA-2014-0068; Title: NESHAP for Primary Lead Smelters (40 CFR Part 63, Subpart TTT); ICR Numbers: EPA ICR Number 1856.10, OMB Control Number 2060-0414; ICR Status: This ICR is scheduled to expire on February 28, 2015.

Abstract: The NESHAP is applicable to primary lead processing facilities that are engaged in the production of lead metal from lead sulfide ore concentrate. The final amendment establishes new emission limits, revises testing, reporting, and recordkeeping requirements. Sources subject to the NESHAP are required to comply with the stack testing, monitoring, reporting, and recordkeeping requirements of the standard.

Form Numbers: None.

Respondents/affected entities: Owners and operators of primary lead smelting facilities.

Respondent's obligation to respond: Mandatory (40 CFR Part 63, Subpart TTT).

Estimated number of respondents: 1 (total).

Frequency of response: Initially, quarterly, semiannually, and biennially.

Total estimated burden: 12,397 hours (per year). Burden is defined at 5 CFR 1320.03(b).

Total estimated cost: $162,757 (per year), includes $162,000 annualized capital or operation & maintenance costs.

Changes in Estimates: There is likely a decrease in the respondent and Agency burden in this ICR compared with the ICR currently approved by OMB. This decrease is due to the fact that the amended standard will have been in effect for more than three years; therefore, the burden associated with ongoing compliance of the standard differs from those associated with initial compliance.

(23) Docket ID Number: EPA-HQ-OECA-2014-0095; Title: NESHAP for Source Categories: Gasoline Distribution Bulk Terminals, Bulk Plants, Pipeline Facilities and Gasoline Dispensing Facilities (40 CFR Part 63, Subpart BBBBBB and CCCCCC); ICR Numbers: EPA ICR Number 2237.04, OMB Control Number 2060-0620; ICR Status: This ICR is scheduled to expire on February 28, 2015.

Abstract: The NESHAP for Gasoline Distribution Bulk Terminals, Bulk Plants, Pipeline Facilities and Gasoline Dispensing Facilities applies to owners or operators of any existing or new gasoline distribution facilities that are an area source of hazardous air pollutants (HAP) emissions. In addition to the initial notification and notification of compliance status required by the General Provisions to 40 CFR Part 63, Subpart A, respondents are required to submit one-time reports of start of construction, anticipated and actual startup dates, and physical or operational changes to existing facilities. Reports of initial performance tests on control devices at gasoline distribution storage tanks, loading racks, and vapor balance systems are also required and are necessary to show that the installed control devices are meeting the emission limitations required by the NESHAP. Annual reports of storage tank inspections at all affected facilities are required. In addition, respondents must submit semiannual compliance and continuous monitoring system performance reports, and semiannual reports of equipment leaks not repaired within 15 days or loadings of cargo tanks for which vapor tightness documentation is not available.

Form Numbers: None.

Respondents/affected entities: Gasoline distribution bulk terminals, bulk plants, pipeline facilities, and gasoline dispensing facilities.

Respondent's obligation to respond: Mandatory (40 CFR Part 63, Subpart BBBBBB and CCCCCC).

Estimated number of respondents: 19,120 (total).

Frequency of response: Initially and semiannually.

Total estimated burden: 60,517 hours (per year). Burden is defined at 5 CFR 1320.03(b).

Total estimated cost: $6,178,409 (per year), includes $110,000 annualized capital or operation & maintenance costs.

Changes in Estimates: There is no change in burden hours in this ICR compared to the previous ICR. However, there is an expected increase in the respondent and Agency costs due to an adjustment to reflect updated labor rates.

(24) Docket ID Number: EPA-HQ-OECA-2014-0096; Title: NESHAP for Iron and Steel Foundry Area Sources (40 CFR Part 63, Subpart ZZZZZ); ICR Numbers: EPA ICR Number 2267.04, OMB Control Number 2060-0605; ICR Status: This ICR is scheduled to expire on February 28, 2015.

Abstract: The NESHAP for Iron and Steel Foundry Area Sources applies to owners or operators of any existing or new iron or steel foundry that is an area source of hazardous air pollutants (HAP) emissions. Research and development facilities are not covered by the rule. Foundries covered by the rule would not be required to obtain a Title V operating permit. Small iron and steel foundries are required to comply with pollution prevention management practices for scrap materials, the removal of mercury switches, and binder formulations. Large iron and steel foundries are required to comply with the same pollution prevention management practices as small foundries in addition to emissions limitations for melting furnaces and foundry operations. Owners or operators must submit notification that the facility is subject to the rule, notification of performance test, notification of compliance status (including results of performance tests and other initial compliance demonstrations), and the semiannual compliance report.

Form Numbers: None.

Respondents/affected entities: Iron and steel foundries.

Respondent's obligation to respond: Mandatory (40 CFR Part 63, Subpart ZZZZZ).

Estimated number of respondents: 427 (total).

Frequency of response: Initially and semiannually.

Total estimated burden: 6,024 hours (per year). Burden is defined at 5 CFR 1320.03(b).

Total estimated cost: $429,208 (per year), includes $8,490 annualized capital or operation & maintenance costs.

Changes in Estimates: There is likely a decrease in the respondent and Agency burden in this ICR compared with the ICR currently approved by OMB. This decrease is due to the fact that the final rule will have been in effect for more than three years; therefore, the burden associated with ongoing compliance of the standard differs from those associated with initial compliance.

(25) Docket ID Number: EPA-HQ-OECA-2014-0055; Title: NESHAP for the Secondary Lead Smelter Industry (40 CFR Part 63, Subpart X); ICR Numbers: EPA ICR Number 1686.11, OMB Control Number 2060-0296; ICR Status: This ICR is scheduled to expire on March 31, 2015.

Abstract: This standard applies to owners and operators of secondary lead smelter industry. The provisions of this subpart apply to secondary lead smelters that use blast, reverberatory, rotary, or electric smelting furnaces to recover lead metal from scrap lead, primarily from used lead-acid automotive-type batteries. Consistent with the NESHAP General Provisions (40 CFR Part 63, Subpart A), owners and operators must comply with recordkeeping, monitoring and reporting requirements including control device parameter monitoring, conduct performance tests and submittal of initial and periodic reports such as semiannual compliance reports and an operation, maintenance and monitoring plan.

Form Numbers: None.

Respondents/affected entities: Secondary lead smelters.

Respondent's obligation to respond: Mandatory (40 CFR Part 63, Subpart X).

Estimated number of respondents: 16 (total).

Frequency of response: Initially, occasionally, quarterly and semiannually.

Total estimated burden: 20,537 hours (per year). Burden is defined at 5 CFR 1320.03(b).

Total estimated cost: $938,873 (per year), includes $590,280 annualized capital or operation & maintenance costs.

Changes in Estimates: There is an expected decrease in the respondent and Agency burden in this ICR compared with the ICR currently approved by OMB. The previous ICR covers the burden associated with initial compliance during the first three-year period of the final rule; this ICR covers the burden associated with ongoing compliance of the standard.

(26) Docket ID Number: EPA-HQ-OECA-2014-0034; Title: NSPS for Kraft Pulp Mills (40 CFR Part 60, Subpart BB); ICR Numbers: EPA ICR Number 1055.11, OMB Control Number 2060-0021; ICR Status: This ICR is scheduled to expire on April 30, 2015.

Abstract: The affected entities are subject to the General Provisions of the NSPS at 40 CFR Part 60, Subpart A, and any changes, or additions to the General Provisions specified at 40 CFR Part 60, Subpart BB. Owners or operators of the affected facilities must submit initial notification, performance tests, and periodic reports and results. Owners or operators are also required to maintain records of the occurrence and duration of any startup, shutdown, or malfunction in the operation of an affected facility, or any period during which the monitoring system is inoperative. Reports are also required, at a minimum, semiannually.

Form Numbers: None.

Respondents/affected entities: Owners and operators of kraft pulp mills.

Respondent's obligation to respond: Mandatory (40 CFR Part 60, Subpart BB).

Estimated number of respondents: 106 (total).

Frequency of response: Initially, occasionally and semiannually.

Total estimated burden: 16,086 hours (per year). Burden is defined at 5 CFR 1320.03(b).

Total estimated cost: $5,723,477 (per year), includes $4,182,100 annualized capital or operation & maintenance costs.

Changes in Estimates: There is an expected increase in the total estimated respondent burden compared with the ICR currently approved by OMB. This increase is due to an adjustment to the estimates to account for industry growth.

(27) Docket ID Number: EPA-HQ-OECA-2014-0059; Title: NESHAP for Natural Gas Transmission and Storage (40 CFR Part 63, Subpart HHH); ICR Numbers: EPA ICR Number 1789.09, OMB Control Number 2060-0418; ICR Status: This ICR is scheduled to expire on April 30, 2015.

Abstract: The NESHAP applies to existing facilities and new facilities that are major sources of hazardous air pollutants (HAP) and that transport or store natural gas prior to entering the pipeline to a local distribution company or to a final end user (if there is no local distribution company). In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Natural gas transmission and storage facilities.

Respondent's obligation to respond: Mandatory (40 CFR Part 63, Subpart HHH).

Estimated number of respondents: 860 (total).

Frequency of response: Initially, occasionally, and semiannually.

Total estimated burden: 2,391 hours (per year). Burden is defined at 5 CFR 1320.03(b).

Total estimated cost: $50,375 (per year), includes no annualized capital or operation & maintenance costs.

Changes in Estimates: There is an expected increase in the respondent and Agency burden in this ICR compared to the previous ICR. The previous ICR approved by OMB only covers burden associated with the amended standard. This ICR will combine the burden for both the existing rule and the amended rule.

(28) Docket ID Number: EPA-HQ-OECA-2014-0066; Title: NESHAP for Ferroalloys Production: Ferromanganese and Siliconmaganese (40 CFR Part 63, Subpart XXX); ICR Numbers: EPA ICR Number 1831.06, OMB Control Number 2060-0391; ICR Status: This ICR is scheduled to expire on April 30, 2015.

Abstract: The NESHAP applies to ferroalloy production facilities that manufacture ferromanganese and silicomanganese that are major sources of hazardous air pollutants (HAPs) or are co-located at major sources of HAPs. In general, all NESHAP standards require initial notifications, performance tests, and periodic reports. Respondents that are not required to conduct an initial performance test are required to notify the EPA Administrator of the initial compliance status of the source. Sources are also required to monitor and maintain records of its operations including: (1) Process or control device parameters; (2) bag leak detention systems; (3) maintenance plan for air pollution control devices (e.g., capture system and venturi scrubbers); (4) certification that monitoring devices are accurate; and (5) the implementation and corrective actions taken related to the startup, shutdown and malfunction plan and the fugitive dust control plan. The types of periodic reports required by this regulation include: Opacity-related reports; performance test results reports; immediate and periodic startup/shutdown/malfunction reports, quarterly emissions reports; capture hood inspection reports; fugitive dust operations reports; and annual compliance status reports. These notifications, reports, and records are essential in determining compliance, and are required of all sources subject to NESHAP standards.

Form Numbers: None.

Respondents/affected entities: Ferroalloy production facilities.

Respondent's obligation to respond: Mandatory (40 CFR Part 63, Subpart XXX).

Estimated number of respondents: 1 (total).

Frequency of response: Initially, quarterly, semiannually and annually.

Total estimated burden: 584 hours (per year). Burden is defined at 5 CFR 1320.03(b).

Total estimated cost: $55,956 (per year), includes no annualized capital or operation & maintenance costs.

Changes in Estimates: There is no change in burden hours in this ICR compared to the previous ICR. However, there is an expected increase in the respondent and Agency costs due to an adjustment to reflect updated labor rates.

(29) Docket ID Number: EPA-HQ-OECA-2014-0078; Title: NESHAP for Metal Coil Surface Coating Plants (40 CFR Part 63, Subpart SSSS); ICR Numbers: EPA ICR Number 1957.07, OMB Control Number 2060-0487; ICR Status: This ICR is scheduled to expire on April 30, 2015.

Abstract: Owners or operators must submit notification reports upon construction or reconstruction of any metal coil surface coating plant. Semiannual reports for periods of operation during which the emission limitation has exceeded, or reports certifying that no exceedances have occurred, also are required. Owners and operators must submit notification reports upon the construction, reconstruction, or modification of any metal coil surface coating plant. Also required is a one-time-only initial notification for new and reconstructed sources. Owners or operators of metal coil surface coating plants subject to the rule must maintain a file of these measurements, and retain the file for at least five years following the date of such measurements, maintenance reports, and records.

Form Numbers: None.

Respondents/affected entities: Owners and operators of metal coil surface coating facilities.

Respondent's obligation to respond: Mandatory (40 CFR Part 63, Subpart SSSS).

Estimated number of respondents: 89 (total).

Frequency of response: Initially, occasionally, weekly, semiannually and annually.

Total estimated burden: 19,901 hours (per year). Burden is defined at 5 CFR 1320.03(b).

Total estimated cost: $1,618,874 (per year), includes $3,648 annualized capital or operation & maintenance costs.

Changes in Estimates: There is no change in burden hours in this ICR compared to the previous ICR. However, there is an expected increase in the respondent and Agency costs due to an adjustment to reflect updated labor rates.

(30) Docket ID Number: EPA-HQ-OECA-2014-0082; Title: NESHAP for Source Categories: Generic Maximum Achievable Control Technology Standards for Carbon Black, Ethylene, Cyanide and Spandex (40 CFR Part 63, Subpart YY); ICR Numbers: EPA ICR Number 1983.07, OMB Control Number 2060-0489; ICR Status: This ICR is scheduled to expire on April 30, 2015.

Abstract: Respondents are owners and operators of facilities in the carbon black production, cyanide chemicals production, ethylene production and spandex production source categories. Respondents would submit notification and information indicating the performance of air pollution controls. This information is needs to ensure compliance with the rule.

Form Numbers: None.

Respondents/affected entities: Owners and operators of carbon black production, cyanide chemicals production, ethylene production and spandex production facilities.

Respondent's obligation to respond: Mandatory (40 CFR Part 63, Subpart YY).

Estimated number of respondents: 72 (total).

Frequency of response: Occasionally, semiannually and annually.

Total estimated burden: 13,524 hours (per year). Burden is defined at 5 CFR 1320.03(b).

Total estimated cost: $1,654,836 (per year), includes $359,031 annualized capital or operation & maintenance costs.

Changes in Estimates: There is no change in burden hours in this ICR compared to the previous ICR. However, there is an expected increase in the respondent and Agency costs due to an adjustment to reflect updated labor rates.

(31) Docket ID Number: EPA-HQ-OECA-2014-0093; Title: NESHAP for Coal- and Oil-Fired Electric Utility Steam Generating Units (40 CFR Part 63, Subpart UUUUU); ICR Numbers: EPA ICR Number 2137.07, OMB Control Number 2060-0567; ICR Status: This ICR is scheduled to expire on April 30, 2015.

Abstract: Potential respondents are owners and operators of coal- and oil-fired electric utility steam generating units. The final rule regulates HCl, filterable PM, Hg, and organic HAP from coal-fired EGUs. For oil-fired EGUs, the final rule regulates HCl, HF, filterable PM, and organic HAP. Following initial performance tests, owners/operators of EGUs will be required to demonstrate compliance with emission limits through continuously monitoring PM, Hg, HCl, and HF (oil-fired EGUs) emissions. The final rule includes a work practice standard for organic HAP; the work practice standard requires the implementation of periodic burner tune-up procedures. Respondents will be required to notify EPA of performance tests and CEMS demonstrations, and to maintain records demonstrating compliance with each emission limit and work practice standard.

Form Numbers: None.

Respondents/affected entities: Owners and operators of coal- and oil-fired electric utility steam generating units.

Respondent's obligation to respond: Mandatory (40 CFR Part 63, Subpart UUUUU).

Estimated number of respondents: 1,246 (total).

Frequency of response: Occasionally and semiannually.

Total estimated burden: 700,296 hours (per year). Burden is defined at 5 CFR 1320.03(b).

Total estimated cost: $207,563,773 (per year), includes $158,445,525 annualized capital or operation & maintenance costs.

Changes in Estimates: There is an expected increase in burden in this ICR as compared to the ICR currently approved by OMB. The increase is due to an adjustment to account for industry growth in the past three years.

(32) Docket ID Number: EPA-HQ-OECA-2014-0097; Title: NESHAP for Plating and Polishing Area Sources (40 CFR Part 63, Subpart WWWWWW); ICR Numbers: EPA ICR Number 2294.04, OMB Control Number 2060-0623; ICR Status: This ICR is scheduled to expire on April 30, 2015.

Abstract: The affected entities are subject to the General Provisions of the NESHAP at 40 CFR Part 63, Subpart A, and any changes, or additions to the General Provisions specified at 40 CFR Part 63, Subpart WWWWWW. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Owners and operators of plating and polishing facilities.

Respondent's obligation to respond: Mandatory (40 CFR Part 63, Subpart WWWWWW).

Estimated number of respondents: 2,900 (total).

Frequency of response: Initially and annually.

Total estimated burden: 33,108 hours (per year). Burden is defined at 5 CFR 1320.03(b).

Total estimated cost: $3,180,693 (per year), includes $8,314 annualized capital or operation & maintenance costs.

Changes in Estimates: There is no change in burden hours in this ICR compared to the previous ICR. However, there is an expected increase in the respondent and Agency costs due to an adjustment to reflect updated labor rates.

(33) Docket ID Number: EPA-HQ-OECA-2014-0099; Title: NESHAP for Ferroalloys Production Area Sources (40 CFR Part 63, Subpart YYYYYY); ICR Numbers: EPA ICR Number 2303.04, OMB Control Number 2060-0625; ICR Status: This ICR is scheduled to expire on April 30, 2015.

Abstract: The affected entities are subject to the General Provisions of the NESHAP at 40 CFR Part 63, Subpart A, and any changes, or additions to the Provisions specified at 40 CFR Part 63, Subpart YYYYYY. Owners or operators of the affected facilities must submit initial notification, performance tests, and periodic reports and results. Owners or operators are also required to maintain records of the occurrence and duration of any startup, shutdown, or malfunction in the operation of an affected facility, or any period during which the monitoring system is inoperative.

Form Numbers: None.

Respondents/affected entities: Ferroalloys production facilities that are area sources of HAP.

Respondent's obligation to respond: Mandatory (40 CFR Part 63, Subpart YYYYYY).

Estimated number of respondents: 10 (total).

Frequency of response: Initially and annually.

Total estimated burden: 345 hours (per year). Burden is defined at 5 CFR 1320.03(b).

Total estimated cost: $33,035 (per year), includes no annualized capital or operation & maintenance costs.

Changes in Estimates: There is no change in burden hours in this ICR compared to the previous ICR. However, there is an expected increase in the respondent and Agency costs due to an adjustment to reflect updated labor rates.

(34) Docket ID Number: EPA-HQ-OECA-2014-0038; Title: NESHAP for Inorganic Arsenic Emissions from Glass Manufacturing Plants (40 CFR Part 61, Subpart N); ICR Numbers: EPA ICR Number 1081.11, OMB Control Number 2060-0043; ICR Status: This ICR is scheduled to expire on May 31, 2015.

Abstract: The affected entities are subject to the General Provisions of the NESHAP at 40 CFR Part 61, Subpart A, and any changes, or additions to the General Provisions specified at 40 CFR Part 61, Subpart N. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Glass manufacturing plants.

Respondent's obligation to respond: Mandatory (40 CFR Part 61, Subpart N).

Estimated number of respondents: 16 (total).

Frequency of response: Initially, occasionally, semiannually and annually.

Total estimated burden: 3,080 hours (per year). Burden is defined at 5 CFR 1320.03(b).

Total estimated cost: $351,094 (per year), includes $56,000 annualized capital or operation & maintenance costs.

Changes in Estimates: There is no change in burden hours in this ICR compared to the previous ICR. However, there is an expected increase in the respondent and Agency costs due to an adjustment to reflect updated labor rates.

(35) Docket ID Number: EPA-HQ-OECA-2014-0040; Title: NSPS for Hot Mix Asphalt Facilities (40 CFR Part 60, Subpart I); ICR Numbers: EPA ICR Number 1127.11, OMB Control Number 2060-0083; ICR Status: This ICR is scheduled to expire on May 31, 2015.

Abstract: These regulations apply to hot mix asphalt facilities comprised only of a combination of the following: Dryers; systems for screening, handling, storing, and weighing hot aggregate; systems for loading, transferring, and storing mineral filler; systems for mixing hot mix asphalt; and the loading, transfer, and storage systems associated with emission control systems.

Form Numbers: None.

Respondents/affected entities: Hot mix asphalt facilities.

Respondent's obligation to respond: Mandatory (40 CFR Part 60, Subpart I).

Estimated number of respondents: 4,325 (total).

Frequency of response: Initially and occasionally.

Total estimated burden: 18,284 hours (per year). Burden is defined at 5 CFR 1320.03(b).

Total estimated cost: $1,751,943 (per year), includes no annualized capital or operation & maintenance costs.

Changes in Estimates: There is an expected increase in burden for the respondent and the Agency due to an adjustment to reflect industry growth. We expect an additional 105 new respondents per year will become subject to the standard. In addition, we expect 140 of the existing respondents will modify their facilities such that they will be required to comply with the initial rule requirements.

(36) Docket ID Number: EPA-HQ-OECA-2014-0042; Title: NSPS for Lime Manufacturing (40 CFR Part 60, Subpart HH); ICR Numbers: EPA ICR Number 1167.11, OMB Control Number 2060-0063; ICR Status: This ICR is scheduled to expire on May 31, 2015.

Abstract: This subpart applies to each rotary lime kiln used in the manufacture of lime. Owners or operators of affected facilities must conduct initial performance tests and continuously monitor opacity or the appropriate control device operating parameters. They must comply with an opacity standard and a moss particulate standard. Sources are also required to submit semiannual reports.

Form Numbers: None.

Respondents/affected entities: Lime manufacturing facilities.

Respondent's obligation to respond: Mandatory (40 CFR Part 60, Subpart HH).

Estimated number of respondents: 41 (total).

Frequency of response: Initially, occasionally and semiannually.

Total estimated burden: 3,772 hours (per year). Burden is defined at 5 CFR 1320.03(b).

Total estimated cost: $422,931 (per year), includes $61,500 annualized capital or operation & maintenance costs.

Changes in Estimates: There is no change in burden hours in this ICR compared to the previous ICR. However, there is an expected increase in the respondent and Agency costs due to an adjustment to reflect updated labor rates.

(37) Docket ID Number: EPA-HQ-OECA-2014-0063; Title: NESHAP for Polyether Polyols Production (40 CFR Part 63, Subpart PPP); ICR Numbers: EPA ICR Number 1811.10, OMB Control Number 2060-0415; ICR Status: This ICR is scheduled to expire on May 31, 2015.

Abstract: The affected entities are subject to the General Provisions of the NESHAP at 40 CFR Part 63, Subpart A, and any changes, or additions to the General Provisions specified at 40 CFR Part 63, Subpart PPP. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Polyether polyols production facilities.

Respondent's obligation to respond: Mandatory (40 CFR Part 63, Subpart PPP).

Estimated number of respondents: 23 (total).

Frequency of response: Initially, semiannually and annually.

Total estimated burden: 3,701 hours (per year). Burden is defined at 5 CFR 1320.03(b).

Total estimated cost: $433,440 (per year), includes $226,113 annualized capital or operation & maintenance costs.

Changes in Estimates: There is no change in burden hours in this ICR compared to the previous ICR. However, there is an expected increase in the respondent and Agency costs due to an adjustment to reflect updated labor rates.

(38) Docket ID Number: EPA-HQ-OECA-2014-0079; Title: NESHAP for Wet-Formed Fiberglass Mat Production (40 CFR Part 63, Subpart HHHH); ICR Numbers: EPA ICR Number 1964.06, OMB Control Number 2060-0496; ICR Status: This ICR is scheduled to expire on May 31, 2015.

Abstract: The affected entities are subject to the General Provisions of the NESHAP at 40 CFR Part 63, Subpart A, and any changes, or additions to the General Provisions specified at 40 CFR Part 63, Subpart HHHH. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Wet-formed fiberglass mat production facilities.

Respondent's obligation to respond: Mandatory (40 CFR Part 63, Subpart HHHH).

Estimated number of respondents: 14 (total).

Frequency of response: Initially, occasionally, semiannually and annually.

Total estimated burden: 3,421 hours (per year). Burden is defined at 5 CFR 1320.03(b).

Total estimated cost: $327,771 (per year), includes no annualized capital or operation & maintenance costs.

Changes in Estimates: There is no change in burden hours in this ICR compared to the previous ICR. However, there is an expected increase in the respondent and Agency costs due to an adjustment to reflect updated labor rates.

(39) Docket ID Number: EPA-HQ-OECA-2014-0044; Title: NESHAP for Coke Oven Batteries (40 CFR Part 63, Subpart L); ICR Numbers: EPA ICR Number 1362.10, OMB Control Number 2060-0253; ICR Status: This ICR is scheduled to expire on June 30, 2015.

Abstract: These standards apply to all coke oven batteries, whether existing, new, reconstructed, rebuilt or restarted. It also applies to all batteries using the conventional by-product recovery, the non-recovery process, or any new recovery process. The 2005 amendments establish more stringent requirements for the control of hazardous air pollutants from coke oven batteries that chose to comply with maximum achievable control technology (MACT) standards under the 1993 rule.

Form Numbers: None.

Respondents/affected entities: Coke oven batteries.

Respondent's obligation to respond: Mandatory (40 CFR Part 63, Subpart L).

Estimated number of respondents: 19 (total).

Frequency of response: Initially, occasionally and semiannually.

Total estimated burden: 80,120 hours (per year). Burden is defined at 5 CFR 1320.03(b).

Total estimated cost: $7,676,989 (per year), includes no annualized capital or operation & maintenance costs.

Changes in Estimates: There is no change in burden hours in this ICR compared to the previous ICR. However, there is an expected increase in the respondent and Agency costs due to an adjustment to reflect updated labor rates.

(40) Docket ID Number: EPA-HQ-OECA-2014-0064; Title: NESHAP for Steel Pickling, HCL Process Facilities and Hydrochloric Acid Regeneration Plants (40 CFR Part 63, Subpart CCC); ICR Numbers: EPA ICR Number 1821.08, OMB Control Number 2060-0419; ICR Status: This ICR is scheduled to expire on June 30, 2015.

Abstract: This rule applies to all facilities that pickle steel using hydrochloric acid or regenerate hydrochloric acid, and are major sources or are part of a facility that is a major source.

Form Numbers: None.

Respondents/affected entities: Steel pickling, hydrochloric acid process and regeneration facilities.

Respondent's obligation to respond: Mandatory (40 CFR Part 63, Subpart CCC).

Estimated number of respondents: 72 (total).

Frequency of response: Initially, occasionally and semiannually.

Total estimated burden: 25,316 hours (per year). Burden is defined at 5 CFR 1320.03(b).

Total estimated cost: $2,433,399 (per year), includes $7,632 annualized capital or operation & maintenance costs.

Changes in Estimates: There is no change in burden hours in this ICR compared to the previous ICR. However, there is an expected increase in the respondent and Agency costs due to an adjustment to reflect updated labor rates.

(41) Docket ID Number: EPA-HQ-OECA-2014-0094; Title: NSPS for Other Solid Waste Incineration Units (40 CFR Part 60, Subpart EEEE); ICR Numbers: EPA ICR Number 2163.05, OMB Control Number 2060-0563; ICR Status: This ICR is scheduled to expire on June 30, 2015.

Abstract: The affected entities are subject to the General Provisions of the NSPS at 40 CFR Part 60, Subpart A, and any changes, or additions to the General Provisions specified at 40 CFR Part 60, Subpart EEEE. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Owners and operators of other solid waste incineration units.

Respondent's obligation to respond: Mandatory (40 CFR Part 60, Subpart EEEE).

Estimated number of respondents: 1 (total).

Frequency of response: Initially, semiannually and annually.

Total estimated burden: 0 hours (per year). Burden is defined at 5 CFR 1320.03(b).

Total estimated cost: $0 (per year), includes no annualized capital or operation & maintenance costs.

Changes in Estimates: There is no change in burden hours in this ICR compared to the previous ICR.

(42) Docket ID Number: EPA-HQ-OECA-2014-0098; Title: NESHAP for Nine Metal Fabrication and Finishing Sources (40 CFR Part 63, Subpart XXXXXX); ICR Numbers: EPA ICR Number 2298.05, OMB Control Number 2060-0622; ICR Status: This ICR is scheduled to expire on June 30, 2015.

Abstract: The regulation applies to nine metal fabrication and finishing area source categories: (1) Electrical and Electronic Equipment Finishing Operations; (2) Fabricated Metal Products; (3) Fabricated Plate Work (Boiler Shops); (4) Fabricated Structural Metal Manufacturing; (5) Heating Equipment, except Electric; (6) Industrial Machinery and Equipment Finishing Operations; (7) Iron and Steel Forging; (8) Primary Metal Products Manufacturing; and (9) Valves and Pipe Fittings. The final rule establishes emission standards in the form of management practices and equipment standards for new and existing operations of dry abrasive blasting, machining, dry grinding and dry polishing with machines, spray painting and other spray coating, and welding operations. These standards reflect EPA's determination regarding the generally achievable control technology and/or management practices for the nine area source categories.

Form Numbers: None.

Respondents/affected entities: Owners and operators of facilities in the nine metal fabrication and finishing source categories.

Respondent's obligation to respond: Mandatory (40 CFR Part 63, Subpart XXXXXX).

Estimated number of respondents: 1,933 (total).

Frequency of response: Initially, occasionally and annually.

Total estimated burden: 20,562 hours (per year). Burden is defined at 5 CFR 1320.03(b).

Total estimated cost: $1,972,260 (per year), includes no annualized capital or operation & maintenance costs.

Changes in Estimates: There is a likely increase in the respondent and Agency burden in this ICR compared to the ICR currently approved by OMB. The previous ICR covers the burden associated with a one-time notification requirement, while this ICR will cover ongoing burden required by the rule, resulting in an overall burden increase.

(43) Docket ID Number: EPA-HQ-OECA-2014-0104; Title: NESHAP for Polyvinyl Chloride and Copolymer Productions Area Sources (40 CFR Part 63, Subpart DDDDDD); ICR Numbers: EPA ICR Number 2454.02, OMB Control Number 2060-0684; ICR Status: This ICR is scheduled to expire on June 30, 2015.

Abstract: The affected entities are subject to the General Provisions of the NESHAP at 40 CFR Part 63, Subpart A, and any changes, or additions to the General Provisions specified at 40 CFR Part 63, Subpart DDDDDD. Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Form Numbers: None.

Respondents/affected entities: Polyvinyl chloride and copolymer production area source facilities.

Respondent's obligation to respond: Mandatory (40 CFR Part 63, Subpart DDDDDD).

Estimated number of respondents: 2 (total).

Frequency of response: Initially, monthly and annually.

Total estimated burden: 427 hours (per year). Burden is defined at 5 CFR 1320.03(b).

Total estimated cost: $1,250,452 (per year), includes $282,358 annualized capital or operation & maintenance costs.

Changes in Estimates: There is an expected decrease in burden in this ICR compared to the ICR currently approved by OMB. The previous ICR covers the initial compliance requirements associated with the final rule, while this ICR covers ongoing compliance.

(44) Docket ID Number: EPA-HQ-OECA-2014-0025; Title: NESHAP for Asbestos (40 CFR Part 61, Subpart M); ICR Numbers: EPA ICR Number 0111.14, OMB Control Number 2060-0101; ICR Status: This ICR is scheduled to expire on July 31, 2015.

Abstract: The affected entities are subject to the General Provisions of the NESHAP at 40 CFR Part 61, Subpart A, and any changes, or additions to the General Provisions specified at 40 CFR Part 61, Subpart M. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Demolition and renovation facilities, disposal of asbestos. wastes, asbestos milling, manufacturing and fabricating, use of asbestos on roadways, asbestos waste conversion facilities, and the use of asbestos insulation and spray-on materials.

Respondent's obligation to respond: Mandatory (40 CFR Part 61, Subpart M).

Estimated number of respondents: 9,517 (total).

Frequency of response: Initially, occasionally, and semiannually.

Total estimated burden: 226,407 hours (per year). Burden is defined at 5 CFR 1320.03(b).

Total estimated cost: $21,694,083 (per year), includes no annualized capital or operation & maintenance costs.

Changes in Estimates: There is an expected increase in the respondent and Agency burden due to an adjustment to reflect a net industry growth since the three-year period covered by the previous ICR.

(45) Docket ID Number: EPA-HQ-OECA-2014-0039; Title: NSPS for Nonmetallic Mineral Processing (40 CFR Part 60, Subpart OOO); ICR Numbers: EPA ICR Number 1084.13, OMB Control Number 2060-0050; ICR Status: This ICR is scheduled to expire on July 31, 2015.

Abstract: The affected entities are subject to the General Provisions of the NSPS at 40 CFR Part 60, Subpart A, and any changes, or additions to the Provisions specified at 40 CFR Part 60, Subpart OOO. Owners or operators of the affected facilities must submit initial notification, performance tests, and periodic reports and results. Owners or operators are also required to maintain records of the occurrence and duration of any startup, shutdown, or malfunction in the operation of an affected facility, or any period during which the monitoring system is inoperative.

Form Numbers: None.

Respondents/affected entities: Nonmetallic mineral processing facilities.

Respondent's obligation to respond: Mandatory (40 CFR Part 60, Subpart OOO).

Estimated number of respondents: 4,697 (total).

Frequency of response: Initially and occasionally.

Total estimated burden: 12,374 hours (per year). Burden is defined at 5 CFR 1320.03(b).

Total estimated cost: $1,340,274 (per year), includes $154,577 annualized capital or operation & maintenance costs.

Changes in Estimates: There is an expected increase in burden in this ICR compared to the ICR currently approved by OMB. The increase is due to an adjustment in the estimated number of respondents to reflect industry growth.

(46) Docket ID Number: EPA-HQ-OECA-2014-0069; Title: NESHAP for Source Categories: Generic Maximum Achievable Control Technology Standards for Acetal Resins; Acrylic and Modacrylic Fiber; Hydrogen Fluoride and Polycarbonate Production (40 CFR Part 63, Subpart YY); ICR Numbers: EPA ICR Number 1871.08, OMB Control Number 2060-0420; ICR Status: This ICR is scheduled to expire on July 31, 2015.

Abstract: The affected entities are subject to the General Provisions of the NESHAP at 40 CFR Part 63, Subpart A, and any changes, or additions to the General Provisions specified at 40 CFR Part 63, Subpart YY. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Acetal resins, acrylic and modacrylic fiber, hydrogen fluoride and polycarbonate production facilities.

Respondent's obligation to respond: Mandatory (40 CFR Part 63, Subpart YY).

Estimated number of respondents: 10 (total).

Frequency of response: Initially, occasionally and semiannually.

Total estimated burden: 3,718 hours (per year). Burden is defined at 5 CFR 1320.03(b).

Total estimated cost: $554,916 (per year), includes $130,345 annualized capital or operation & maintenance costs.

Changes in Estimates: There is no change in burden hours in this ICR compared to the previous ICR. However, there is an expected increase in the respondent and Agency costs due to an adjustment to reflect updated labor rates.

(47) Docket ID Number: EPA-HQ-OECA-2014-0090; Title: NESHAP for Miscellaneous Metal Parts and Products (40 CFR Part 63, Subpart MMMM); ICR Numbers: EPA ICR Number 2056.05, OMB Control Number 2060-0486; ICR Status: This ICR is scheduled to expire on July 31, 2015.

Abstract: The affected entities are subject to the General Provisions of the NESHAP at 40 CFR Part 63, Subpart A, and any changes, or additions to the General Provisions specified at 40 CFR Part 63, Subpart MMMM. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Miscellaneous metal parts and products manufacturing facilities.

Respondent's obligation to respond: Mandatory (40 CFR Part 63, Subpart MMMM).

Estimated number of respondents: 4,992 (total).

Frequency of response: Occasionally and semiannually.

Total estimated burden: 2,254,948 hours (per year). Burden is defined at 5 CFR 1320.03(b).

Total estimated cost: $3,304,948 (per year), includes $1,050,000 annualized capital or operation & maintenance costs.

Changes in Estimates: There is no change in burden hours in this ICR compared to the previous ICR. However, there is an expected increase in the respondent and Agency costs due to an adjustment to reflect updated labor rates.

(48) Docket ID Number: EPA-HQ-OECA-2014-0101; Title: NESHAP for Polyvinyl Chloride and Copolymer Production (40 CFR Part 63, Subpart HHHHHHH); ICR Numbers: EPA ICR Number 2432.03, OMB Control Number 2060-0666; ICR Status: This ICR is scheduled to expire on July 31, 2015.

Abstract: The affected entities are subject to the General Provisions of the NESHAP at 40 CFR Part 63, Subpart A, and any changes, or additions to the General Provisions specified at 40 CFR Part 63, Subpart HHHHHHH. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Polyvinyl chloride and copolymer production facilities.

Respondent's obligation to respond: Mandatory (40 CFR Part 63, Subpart HHHHHHH).

Estimated number of respondents: 15 (total).

Frequency of response: Initially, occasionally, monthly and annually.

Total estimated burden: 3,164 hours (per year). Burden is defined at 5 CFR 1320.03(b).

Total estimated cost: $1,851,495 (per year), includes $1,552,251 annualized capital or operation & maintenance costs.

Changes in Estimates: There is likely a small increase in the respondent burden and a decrease in Agency burden in this ICR compared to the ICR currently approved by OMB. The previous ICR covers the initial three-year period of the final rule, while this ICR covers the burden associated with ongoing compliance, which differs from initial rule requirements.

(49) Docket ID Number: EPA-HQ-OECA-2014-0103; Title: NSPS for Nitric Acid Plants for which Construction, Reconstruction or Modification Commenced after October 14, 2011 (40 CFR Part 60, Subpart Ga); ICR Numbers: EPA ICR Number 2445.03, OMB Control Number 2060-0674; ICR Status: This ICR is scheduled to expire on August 31, 2015.

Abstract: The NSPS for nitric acid plants (40 CFR Part 60, Subpart G) were proposed on August 17, 1971, and promulgated on June 14, 1974. This information collection is for a new Subpart Ga, which will apply to nitric acid production units which commence construction, modification, or reconstruction after October 14, 2011. Nitrogen oxide (NOX) is the pollutant regulated under this subpart. The standards limit nitrogen oxides, expressed as nitrogen dioxide (NO2), to 0.50 lb per ton of 100 percent nitric acid produced. This information is being collected to assure compliance with 40 CFR Part 60, Subpart Ga.

Form Numbers: None.

Respondents/affected entities: Nitric acid plants constructed, reconstructed, or modified after October 14, 2011.

Respondent's obligation to respond: Mandatory (40 CFR Part 60, Subpart Ga).

Estimated number of respondents: 4 (total).

Frequency of response: Annually.

Total estimated burden: 968 hours (per year). Burden is defined at 5 CFR 1320.03(b).

Total estimated cost: $211,076 (per year), includes $119,268 annualized capital or operation & maintenance costs.

Changes in Estimates: There is an expected increase in the respondent burden in this ICR to reflect industry growth resulting from newly constructed sources that are subject to the standard.

(50) Docket ID Number: EPA-HQ-OECA-2014-0031; Title: NSPS for Petroleum Dry Cleaners (40 CFR Part 60, Subpart JJJ); ICR Numbers: EPA ICR Number 0997.11, OMB Control Number 2060-0079; ICR Status: This ICR is scheduled to expire on September 30, 2015.

Abstract: The affected entities are subject to the General Provisions of the NSPS at 40 CFR Part 60, Subpart A and any changes, or additions to the Provisions specified at 40 CFR Part 60, Subpart JJJ. Owners or operators of the affected facilities must make an initial notification, performance tests, periodic reports, and maintain records of the occurrence and duration of any startup, shutdown, or malfunction in the operation of an affected facility, or any period during which the monitoring system is inoperative. Reports, at a minimum, are required semiannually.

Form Numbers: None.

Respondents/affected entities: Petroleum dry cleaners.

Respondent's obligation to respond: Mandatory (40 CFR Part 60, Subpart JJJ).

Estimated number of respondents: 20 (total).

Frequency of response: Initially.

Total estimated burden: 1,849 hours (per year). Burden is defined at 5 CFR 1320.03(b).

Total estimated cost: $177,191 (per year), includes no annualized capital or operation & maintenance costs.

Changes in Estimates: There is an expected increase in burden in this ICR compared to the ICR currently approved by OMB. The increase is due to an adjustment in the estimated number of respondents to reflect industry growth.

(51) Docket ID Number: EPA-HQ-OECA-2014-0046; Title: NESHAP for Benzene Waste Operations (40 CFR Part 61, Subpart FF); ICR Numbers: EPA ICR Number 1541.11, OMB Control Number 2060-0183; ICR Status: This ICR is scheduled to expire on September 30, 2015.

Abstract: The affected entities are subject to the General Provisions of the NESHAP at 40 CFR Part 61, Subpart A, and any changes, or additions to the Provisions specified at 40 CFR Part 61, Subpart FF. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Owners and operators of chemical manufacturing plants, coke by-product recovery plants, and petroleum refineries.

Respondent's obligation to respond: Mandatory (40 CFR Part 61, Subpart FF).

Estimated number of respondents: 270 (total).

Frequency of response: Initially, occasionally, quarterly and semiannually.

Total estimated burden: 19,148 hours (per year). Burden is defined at 5 CFR 1320.03(b).

Total estimated cost: $1,834,697 (per year), includes no annualized capital or operation & maintenance costs.

Changes in Estimates: There is no change in burden hours in this ICR compared to the previous ICR. However, there is an expected increase in the respondent and Agency costs due to an adjustment to reflect updated labor rates.

(52) Docket ID Number: EPA-HQ-OECA-2014-0071; Title: NESHAP for Publicly Owned Treatment Works (40 CFR Part 63, Subpart VVV); ICR Numbers: EPA ICR Number 1891.07, OMB Control Number 2060-0428; ICR Status: This ICR is scheduled to expire on September 30, 2015.

Abstract: The affected entities are subject to the General Provisions of the NESHAP at 40 CFR Part 63, Subpart A, and any changes, or additions to the Provisions specified at 40 CFR Part 63, Subpart VVV. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Owners and operators of publicly-owned treatment works.

Respondent's obligation to respond: Mandatory (40 CFR Part 63, Subpart VVV).

Estimated number of respondents: 6 (total).

Frequency of response: Initially, occasionally, semiannually and annually.

Total estimated burden: 14 hours (per year). Burden is defined at 5 CFR 1320.03(b).

Total estimated cost: $1,322 (per year), includes no annualized capital or operation & maintenance costs.

Changes in Estimates: There is no change in burden hours in this ICR compared to the previous ICR. However, there is an expected increase in the respondent and Agency costs due to an adjustment to reflect updated labor rates.

(53) Docket ID Number: EPA-HQ-OECA-2014-0075; Title: NESHAP for Municipal Solid Waste Landfills (40 CFR Part 63, Subpart AAAA); ICR Numbers: EPA ICR Number 1938.06, OMB Control Number 2060-0505; ICR Status: This ICR is scheduled to expire on September 30, 2015.

Abstract: The affected entities are subject to the General Provisions of the NESHAP at 40 CFR Part 63, Subpart A, and any changes, or additions to the Provisions specified at 40 CFR Part 63, Subpart AAAA. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Owners and operators of municipal solid waste landfills.

Respondent's obligation to respond: Mandatory (40 CFR Part 63, Subpart AAAA).

Estimated number of respondents: 1,124 (total).

Frequency of response: Occasionally, semiannually and annually.

Total estimated burden: 18,283 hours (per year). Burden is defined at 5 CFR 1320.03(b).

Total estimated cost: $1,768,692 (per year), includes $16,860 annualized capital or operation & maintenance costs.

Changes in Estimates: There is an expected increase in burden in this ICR compared to the ICR currently approved by OMB. The increase is due to an adjustment in estimate to account for industry growth since the three-year period covered by the previous ICR.

(54) Docket ID Number: EPA-HQ-OECA-2014-0077; Title: NESHAP for Paper and Other Web Coating (40 CFR Part 63, Subpart JJJJ); ICR Numbers: EPA ICR Number 1951.06, OMB Control Number 2060-0511; ICR Status: This ICR is scheduled to expire on September 30, 2015.

Abstract: The affected entities are subject to the General Provisions of the NESHAP at 40 CFR Part 63, Subpart A, and any changes, or additions to the General Provisions specified at 40 CFR Part 63, Subpart JJJJ. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Paper and other web coating facilities.

Respondent's obligation to respond: Mandatory (40 CFR Part 63, Subpart JJJJ).

Estimated number of respondents: 233 (total).

Frequency of response: Initially, occasionally, monthly and semiannually.

Total estimated burden: 11,861 hours (per year). Burden is defined at 5 CFR 1320.03(b).

Total estimated cost: $2,069,373 (per year), includes $932,875 annualized capital or operation & maintenance costs.

Changes in Estimates: There is an expected increase in burden in this ICR compared to the ICR currently approved by OMB. The increase is due to an adjustment in the estimated number of respondents to reflect industry growth.

(55) Docket ID Number: EPA-HQ-OECA-2014-0076; Title: NESHAP for the Surface Coating of Large Household and Commercial Appliances (40 CFR Part 63, Subpart NNNN); ICR Numbers: EPA ICR Number 1954.06, OMB Control Number 2060-0457; ICR Status: This ICR is scheduled to expire on September 30, 2015.

Abstract: The affected entities are subject to the General Provisions of the NESHAP at 40 CFR Part 63, Subpart A, and any changes, or additions to the General Provisions specified at 40 CFR Part 63, Subpart NNNN. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Facilities that conduct surface coating for large household and commercial appliances.

Respondent's obligation to respond: Mandatory (40 CFR Part 63, Subpart NNNN).

Estimated number of respondents: 102 (total).

Frequency of response: Initially, occasionally and semiannually.

Total estimated burden: 32,634 hours (per year). Burden is defined at 5 CFR 1320.03(b).

Total estimated cost: $3,721,318 (per year), includes $594,400 annualized capital or operation & maintenance costs.

Changes in Estimates: There is an increase in burden in this ICR compared to the ICR currently approved by OMB. The increase is due to an adjustment in the estimated number of respondents to reflect industry growth since the three-year period covered by the previous ICR.

(56) Docket ID Number: EPA-HQ-OECA-2014-0081; Title: NESHAP for Reinforced Plastics Composites Production (40 CFR Part 63, Subpart WWWW); ICR Numbers: EPA ICR Number 1976.06, OMB Control Number 2060-0509; ICR Status: This ICR is scheduled to expire on September 30, 2015.

Abstract: These regulations apply to existing facilities and new facilities with reinforced plastic composites (RPC) production operations and processes. New facilities include those that commenced construction or reconstruction after the date of proposal.

Form Numbers: None.

Respondents/affected entities: Reinforced plastic composites production facilities.

Respondent's obligation to respond: Mandatory (40 CFR Part 63, Subpart WWWW).

Estimated number of respondents: 552 (total).

Frequency of response: Initially and semiannually.

Total estimated burden: 19,312 hours (per year). Burden is defined at 5 CFR 1320.03(b).

Total estimated cost: $1,874,090 (per year), includes $23,612 annualized capital or operation & maintenance costs.

Changes in Estimates: There is an expected increase in burden in this ICR compared to the ICR currently approved by OMB. The increase is due to an adjustment in the estimated number of respondents to reflect industry growth since the three-year period covered by the previous ICR.

(57) Docket ID Number: EPA-HQ-OECA-2014-0084; Title: NESHAP for Coke Oven Pushing Quenching and Battery Stacks (40 CFR Part 63, Subpart CCCCC); ICR Numbers: EPA ICR Number 1995.06, OMB Control Number 2060-0521; ICR Status: This ICR is scheduled to expire on September 30, 2015.

Abstract: The affected entities are subject to the General Provisions of the NESHAP at 40 CFR Part 63, Subpart A, and any changes, or additions to the Provisions specified at 40 CFR Part 63, Subpart CCCCC. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Owners or operators of coke oven batteries at a coke plant that is a major source of HAP.

Respondent's obligation to respond: Mandatory (40 CFR Part 63, Subpart CCCCC).

Estimated number of respondents: 19 (total).

Frequency of response: Initially, occasionally, weekly, quarterly, and semiannually.

Total estimated burden: 25,879 hours (per year). Burden is defined at 5 CFR 1320.03(b).

Total estimated cost: $2,649,250 (per year), includes $169,500 annualized capital or operation & maintenance costs.

Changes in Estimates: There is no change in burden hours in this ICR compared to the previous ICR. However, there is an expected increase in the respondent and Agency costs due to an adjustment to reflect updated labor rates.

(58) Docket ID Number: EPA-HQ-OECA-2014-0086; Title: NESHAP for Flexible Polyurethane Foam Fabrication (40 CFR Part 63, Subpart MMMMM); ICR Numbers: EPA ICR Number 2027.06, OMB Control Number 2060-0516; ICR Status: This ICR is scheduled to expire on September 30, 2015.

Abstract: The affected entities are subject to the General Provisions of the NESHAP at 40 CFR Part 63, Subpart A, and any changes, or additions to the General Provisions specified at 40 CFR Part 63, Subpart MMMMM. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Flexible polyurethane foam fabrication facilities.

Respondent's obligation to respond: Mandatory (40 CFR Part 63, Subpart MMMMM).

Estimated number of respondents: 14 (total).

Frequency of response: Initially, occasionally, semiannually and annually.

Total estimated burden: 15,601 hours (per year). Burden is defined at 5 CFR 1320.03(b).

Total estimated cost: $1,497,553 (per year), includes $2,671 annualized capital or operation & maintenance costs.

Changes in Estimates: There is an expected increase in burden in this ICR compared to the ICR currently approved by OMB. The increase is due to an adjustment in the estimated number of respondents to reflect industry growth since the three-year period covered by the previous ICR.

(59) Docket ID Number: EPA-HQ-OECA-2014-0087; Title: NESHAP for Asphalt Processing and Asphalt Roofing Manufacturing (40 CFR Part 63, Subpart LLLLL); ICR Numbers: EPA ICR Number 2029.06, OMB Control Number 2060-0520; ICR Status: This ICR is scheduled to expire on September 30, 2015.

Abstract: The affected entities are subject to the General Provisions of the NESHAP at 40 CFR Part 63, Subpart A, and any changes, or additions to the Provisions specified at 40 CFR Part 63, Subpart LLLLL. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Asphalt processing and asphalt roofing manufacturing facilities.

Respondent's obligation to respond: Mandatory (40 CFR Part 63, Subpart LLLLL).

Estimated number of respondents: 27 (total).

Frequency of response: Initially, occasionally and semiannually.

Total estimated burden: 13,497 hours (per year). Burden is defined at 5 CFR 1320.03(b).

Total estimated cost: $1,318,753 (per year), includes $25,452 annualized capital or operation & maintenance costs.

Changes in Estimates: There is an expected increase in burden in this ICR compared to the ICR currently approved by OMB. The increase is due to an adjustment in the estimated number of respondents to reflect industry growth since the three-year period covered by the previous ICR.

(60) Docket ID Number: EPA-HQ-OECA-2014-0088; Title: NESHAP for Refractory Products Manufacturing (40 CFR Part 63, Subpart SSSSS); ICR Numbers: EPA ICR Number 2040.06, OMB Control Number 2060-0515; ICR Status: This ICR is scheduled to expire on September 30, 2015.

Abstract: The affected entities are subject to the General Provisions of the NESHAP at 40 CFR Part 63, Subpart A, and any changes, or additions to the provisions specified at 40 CFR Part 63, Subpart SSSSS. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Refractory products manufacturing facilities.

Respondent's obligation to respond: Mandatory (40 CFR Part 63, Subpart SSSSS).

Estimated number of respondents: 8 (total).

Frequency of response: Initially, occasionally and semiannually.

Total estimated burden: 338 hours (per year). Burden is defined at 5 CFR 1320.03(b).

Total estimated cost: $35,436 (per year), includes $3,040 annualized capital or operation & maintenance costs.

Changes in Estimates: There is no change in burden hours in this ICR compared to the previous ICR. However, there is an expected increase in the respondent and Agency costs due to an adjustment to reflect updated labor rates.

(61) Docket ID Number: EPA-HQ-OECA-2014-0089; Title: NESHAP for Semiconductor Manufacturing (40 CFR Part 63, Subpart BBBBB); ICR Numbers: EPA ICR Number 2042.06, OMB Control Number 2060-0519; ICR Status: This ICR is scheduled to expire on September 30, 2015.

Abstract: The affected entities are subject to the General Provisions of the NESHAP at 40 CFR Part 63, Subpart A, and any changes, or additions to the Provisions specified at 40 CFR Part 63, Subpart BBBBB. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Semiconductor manufacturing facilities.

Respondent's obligation to respond: Mandatory (40 CFR Part 63, Subpart BBBBB).

Estimated number of respondents: 1 (total).

Frequency of response: Initially, occasionally and semiannually.

Total estimated burden: 37 hours (per year). Burden is defined at 5 CFR 1320.03(b).

Total estimated cost: $3,576 (per year), includes $50 annualized capital or operation & maintenance costs.

Changes in Estimates: There is no change in burden hours in this ICR compared to the previous ICR. However, there is an expected increase in the respondent and Agency costs due to an adjustment to reflect updated labor rates.

(62) Docket ID Number: EPA-HQ-OECA-2014-0092; Title: NESHAP for Printing, Coating and Dyeing of Fabrics and Other Textiles (40 CFR Part 63, Subpart OOOO); ICR Numbers: EPA ICR Number 2071.06, OMB Control Number 2060-0522; ICR Status: This ICR is scheduled to expire on September 30, 2015.

Abstract: The affected entities are subject to the General Provisions of the NESHAP at 40 CFR Part 63, Subpart A, and any changes, or additions to the Provisions specified at 40 CFR Part 63, Subpart OOOO. Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Facilities in the printing, coating, slashing, dyeing or finishing of fabric and other textiles source categories.

Respondent's obligation to respond: Mandatory (40 CFR Part 63, Subpart OOOO).

Estimated number of respondents: 143 (total).

Frequency of response: Initially and semiannually.

Total estimated burden: 21,271 hours (per year). Burden is defined at 5 CFR 1320.03(b).

Total estimated cost: $2,044,793 (per year), includes $6,671 annualized capital or operation & maintenance costs.

Changes in Estimates: There is an expected increase in burden in this ICR compared to the ICR currently approved by OMB. The increase is due to an adjustment in the estimated number of respondents to reflect industry growth since the three-year period covered by the previous ICR.

(63) Docket ID Number: EPA-HQ-OECA-2014-0102; Title: NSPS for Oil and Natural Gas Production and Natural Gas Transmission and Distribution (40 CFR Part 60, Subpart OOOO); ICR Numbers: EPA ICR Number 2437.03, OMB Control Number 2060-0673; ICR Status: This ICR is scheduled to expire on September 30, 2015.

Abstract: The NSPS covers the requirements at Subpart OOOO. The existing provisions of Subparts KKK/LLL will be included in this subpart along with the new proposed provisions for the following affected facilities: gas wellheads, pneumatic controllers, centrifugal and reciprocating compressors, and storage vessels. The oil and natural gas sector includes operations involved in the extraction and production of oil and natural gas, as well as the processing, transmission, and distribution of natural gas. The potential respondents are owners or operators of oil and gas affected facilities found throughout these industry segments. We estimate 500 entities will be affected by this NSPS.

Form Numbers: None.

Respondents/affected entities: Oil and natural gas production and natural gas transmission and distribution facilities.

Respondent's obligation to respond: Mandatory (40 CFR Part 60, Subpart OOOO)

Estimated number of respondents: 500 (total).

Frequency of response: Semiannually and annually.

Total estimated burden: 68,906 hours (per year). Burden is defined at 5 CFR 1320.03(b).

Total estimated cost: $3,137,909 (per year), includes $831,336 annualized capital or operation & maintenance costs.

Changes in Estimates: There is likely an increase in burden in this ICR due to an adjustment in the estimated number of respondents to account for industry growth. In addition, this ICR covers the ongoing compliance of the standard, which differs from the burden associated with initial requirements as presented in the previous ICR.

Dated: May 13, 2014.
Lisa C. Lund,
Director, Office of Compliance.

[FR Doc. 2014-12168 Filed 5-23-14; 8:45 am]

BILLING CODE 6560-50-P